DEPARTMENT OF COMMERCE

National Oceanic and Atmospheric Administration

[I.D. 021003A]

Atlantic Coastal Fisheries Cooperative Management Act Provisions; Application for an Exempted Fishing Permit (EFP)

AGENCY: National Marine Fisheries Service (NMFS), National Oceanic and Atmospheric Administration (NOAA), Commerce.

ACTION: Notice of intent to issue an EFP to use modified traps to capture Royal Red Shrimp (Pleoticus robustus); request for comments.

SUMMARY: The Administrator, Northeast Region, NMFS (Regional Administrator) has made a preliminary determination that the subject EFP application contains all the required information and warrants further consideration. The Regional Administrator has also made a preliminary determination that the activities authorized under the EFP would be consistent with the goals and objectives of Federal management of the American lobster resource. However, further review and consultation may be necessary before a final determination is made to issue the EFP. Therefore, NMFS announces that the Regional Administrator intends to issue an EFP that would allow one federally permitted lobster vessel to fish a maximum of six modified lobster traps to obtain live specimens of royal red shrimp for the purposes of study and cultivation. The request for the EFP was submitted by the Department of Molecular and Cell Biology, University of Connecticut in conjunction with a grant received by the U.S. Department of Agriculture to carry out aquaculture trials and maturation experiments on royal red shrimp and determine the suitability of this species for aquaculture. Approximately 300 to 600 live adult royal red shrimp are needed to carry out the aquaculture trials. Collection of the specimens will be conducted aboard the identified vessel during the course of routine commercial trap fishing operations for American lobster and red crab in lobster conservation management area 3, in the vicinity of Munson Canyon east to the Hague line. The EFP would authorize the experimental fishing to occur for a 1-year period beginning on the date of issuance of the EFP.

DATES: Comments on this action and application for an EFP for use of modified lobster traps for capture of royal red shrimp must be received on or before March 12, 2003.

ADDRESSES: Written comments should be sent to Patricia A. Kurkul, Regional Administrator, NOAA Fisheries, Northeast Regional Office, 1 Blackburn Drive, Gloucester, MA 01930. Mark the outside of the envelope “Comments on Royal Red Shrimp EFP Proposal”. Comments may also be sent via facsimile (fax) to (978) 281-9117. Comments will not be accepted if submitted via email or the internet.

FOR FURTHER INFORMATION CONTACT: Peter Burns, Fishery Management Specialist, (978) 281-9144.

SUPPLEMENTARY INFORMATION:

Background

The regulations that govern exempted fishing, at 50 CFR 600.745(b) and 697.22, allow the Regional Administrator to authorize for limited testing, public display, data collection, exploration, health and safety, environmental clean-up and/or hazardous removal purposes, and the targeting or incidental harvest of managed species that would otherwise be prohibited. An EFP to authorize such activity may be issued, provided that adequate opportunity is given for the public to comment on the EFP application; the conservation goals and objectives of Federal management of the American lobster resource are not compromised; and the issuance of the EFP is beneficial to the management of the species.

Royal red shrimp can be found in the deep water habitats along the continental shelf and have been commercially harvested in a relatively limited capacity. Royal red shrimp are not a federally managed species. Therefore, no regulatory exemptions pertaining to their capture or retention are necessary.

The American lobster fishery is the most valuable fishery in the northeastern United States. In 2001, approximately 74 million pounds (33,439 metric tons) of American lobster were landed with an ex-vessel value of approximately 255 million dollars. The American lobster resource is managed by the Atlantic States Marine Fisheries Commission's Interstate Fishery Management Plan for American Lobster. Regulations pertaining to the management of the resource in the Federal waters of the Exclusive Economic Zone (EEZ) are codified at 50 CFR part 697.

Regulations Pertinent to this EFP

The EFP for this activity relates to the experimental trap gear (no more than six experimental traps) and would waive the vessel from the trap limits as codified in 50 CFR 697.19(b)(2) and trap tagging requirements in 50 CFR 697.19(c) of the Federal lobster regulations. In addition, exemptions to the trap identification and trap tagging requirements in 50 CFR 697.21(a)(2), the escape vent requirement in 50 CFR 697.21(c), the ghost panel requirement in 50 CFR 697.21(d), and the maximum trap size restriction in 50 CFR 697.21(e)(2)(i) and (ii) are also necessary to allow the applicant to carry out the proposed experimental fishing. These exemptions are required because the vessel may exceed the current trap limit by fishing up to an additional six traps; the size of the experimental traps is slightly larger than currently allowed under the Federal regulations (33,800 cu. (553,883 cu. cm.) vs. 30,100 cu. in.(493,251 cu. cm.)); the experimental trap design does not provide for either an escape vent or a ghost panel; and no practical mechanism exists by which additional trap tags may be obtained by the vessel owner to affix to the experimental traps. The waiver of these requirements would apply to the experimental trap gear only. The vessel's commercial trap gear would still be held to all the requirements of the Federal regulations.

Proposed EFP

The EFP request was submitted by the University of Connecticut. Researchers from this institution will collaborate with the owner/operator of an identified vessel to obtain 300 to 600 live adult royal red shrimp. The vessel, when conducting routine commercial trap fishing for American lobster and red crab, would deploy up to six modified traps in addition to the vessel's maximum trap allocation of 1,800 lobster traps. The modified traps will be added to the multi-trap trawls fished by the vessel and will not result in additional vertical lines in the water column. The operator of the vessel will be responsible for transporting, deploying, and hauling back the modified gear over the requested period until such time that a suitable number (300-600 individual live adult royal red shrimp) are successfully acquired or until the EFP expires (not to extend beyond one year in duration). Any bycatch will be discarded, and any live adult royal red shrimp will be retained, kept alive, and transported to researchers at the University of Connecticut.

The proposed experimental traps will be of a modified lobster or red crab design, with approximate dimensions as follows: 50” X 26” X 26” (approximately 33,800 cu. in.; 553,883 cu. cm.). Mesh size throughout the body of the trap will be 1/4 in. (0.635 cm.) and each trap will be wrapped entirely in burlap cloth in such a manner to allow entry of the shrimp but prevent escapement. Fishing depth of the traps is expected to be between 190 and 300 fathoms, and the experimental fishing is proposed for lobster conservation management area 3 in the vicinity of Munson Canyon east to the Hague Line. The University of Connecticut's proposal estimates approximately 100-150 lb (45.5 - 68.2 kg.) of bycatch in the experimental traps during the course of the project, including small monkfish, other finfish and shrimp species, small crabs, and lobsters. These bycatch estimates were provided by the applicant and are based on the results of otter trawl experiments conducted by NOAA funded research projects that targeted royal red shrimp at similar depths and provided detailed data on observed bycatch.

Authority: 16 U.S.C. 1801 et seq.

Dated: February 14, 2003.
Richard W. Surdi,
Acting Director, Office of Sustainable Fisheries, National Marine Fisheries Service.

[FR Doc. 03-4331 Filed 2-24-03; 8:45 am]

BILLING CODE 3510-22-S